DEPARTMENT OF COMMERCE

Foreign-Trade Zones Board

[B-26-2015]

Authorization of Production Activity; Foreign-Trade Zone 39; Valeo North America, Inc. d/b/a Valeo Compressor North America (Motor Vehicle Air-Conditioner Compressors); Dallas, Texas

On April 20, 2015, Valeo North America, Inc. d/b/a Valeo Compressor North America, an operator of FTZ 39, submitted a notification of proposed production activity to the Foreign-Trade Zones (FTZ) Board for its facility in Dallas, Texas.

The notification was processed in accordance with the regulations of the FTZ Board (15 CFR part 400), including notice in the Federal Register inviting public comment (80 FR 25278, 5-4-2015). The FTZ Board has determined that no further review of the activity is warranted at this time. The production activity described in the notification is authorized, subject to the FTZ Act and the FTZ Board's regulations, including Section 400.14.

Dated: August 19, 2015.
Andrew McGilvray,
Executive Secretary.

[FR Doc. 2015-21050 Filed 8-24-15; 8:45 am]

BILLING CODE 3510-DS-P